DEPARTMENT OF COMMERCE

Foreign-Trade Zones Board

[Docket 29-2000]

Proposed Subzone Status—Archer Daniels Midland, Inc. (Natural Vitamin E) Decatur, IL; Amendment of Application

Notice is hereby given that the application of the Decatur Park District, grantee of Foreign-Trade Zone 245, for special-purpose subzone status for the natural Vitamin E manufacturing facility of Archer Daniels Midland, Inc. (ADM) in Decatur, Illinois (Doc. 29-2000, 65 F.R. 39123, 6/23/2000), has been amended to add a second site (33.74 acres) in Decatur. This additional site is located at 2311 N. 22nd Street. The application otherwise remains unchanged.

The commend period is reopened until July 5, 2001. Submissions (original and 3 copies) shall be addressed to the Board's Executive Secretary at the address below.

A copy of the application and the amendment and accompanying exhibits are available for public inspection at the following locations:

Office of the Executive Secretary, Foreign-Trade Zones Board, U.S. Department of Commerce, Room 4008, 14th & Pennsylvania Avenue, NW, Washington, DC 20230

Airport Administration Office, Decatur Airport, 910 Airport Road, Decatur, IL 62521

Dated: June 6, 2001.
Dennis Puccinelli,
Executive Secretary.

[FR Doc. 01-15076 Filed 6-14-01; 8:45 am]

BILLING CODE 3510-DS-P